DEPARTMENT OF TRANSPORTATION

Federal Aviation Administration

Notification of Policy Revisions, and Requests for Comments on the Percentage of Fabrication and Assembly That Must Be Completed by an Amateur Builder To Obtain an Experimental Airworthiness Certificate for an Amateur-Built Aircraft; Extension of Comment Period

AGENCY: Federal Aviation Administration (FAA), DOT.

ACTION: Notice; extension of comment period.

SUMMARY: This notice announces an extension of the comment period for the proposed revisions to Chapter 4, Special Airworthiness Certification, Section 9 of the FAA Order 8130.2F, Airworthiness Certification of Aircraft and Related Products, and Advisory Circular (AC) 20-27G, Certification and Operation of Amateur-Built Aircraft (AC 20-27G is the result of combining AC 20-27F and AC 20-139, Commercial Assistance During Construction of Amateur-Built Aircraft), as well as for comments on the percentage of fabrication and assembly that must be completed by an amateur builder to obtain an experimental airworthiness certificate for an amateur-built aircraft. These and other related documents are located on the FAA main Web page. The Web link is: http://www.faa.gov/aircraft/draft_docs/display_docs/index.cfm?Doc_Type=Pubs.

DATES: Please submit your comments on or before September 30, 2008.

ADDRESSES: You may submit your comments via e-mail to miguel.vasconcelos@faa.gov, via fax to (202) 267-8850 (ATTN: Miguel Vasconcelos, AIR-230) or via mail or hand delivery to: Production and Airworthiness Division (AIR-200), Federal Aviation Administration (Room 815), 800 Independence Ave, SW., Washington, DC 20591, ATTN: Miguel Vasconcelos.

FOR FURTHER INFORMATION CONTACT: Frank Paskiewicz, Manager, Production and Airworthiness Division, AIR-200, Federal Aviation Administration, 800 Independence Ave., SW., Washington, DC 20591; telephone number: (202) 267-8361.

SUPPLEMENTARY INFORMATION:

Background

On July 15, 2008 (73 FR 40652), the FAA published a notice requesting comments on proposed changes to FAA Order 8130.2F and Advisory Circular (AC) 20-27G, as well as comments on the percentage of fabrication and assembly that must be completed by an amateur builder to obtain an experimental airworthiness certificate for an amateur-built aircraft. The comment close date of August 15, 2008 was not specifically posted in that notice and was only available on the FAA Web site. Because some interested parties may not have web access and, therefore, may not have been aware of the original comment deadline, the FAA has decided to extend the comment period by 45 days to September 30, 2008, and to publish this announcement in the Federal Register. This extension will also allow more time for the public to participate and provide the FAA with more in-depth comments on the proposed changes.

Issued in Washington, DC on July 21, 2008.
Frank Paskiewicz,
Manager, Production and Airworthiness Division.

[FR Doc. E8-16989 Filed 7-23-08; 8:45 am]

BILLING CODE 4910-13-P